DEPARTMENT OF COMMERCE

National Oceanic and Atmospheric Administration

50 CFR Part 648

[Docket No. 250623-0105]

RIN 0648-BN51

Fisheries of the Northeastern United States; 2025 Black Sea Bass Recreational Management Measures

AGENCY: National Marine Fisheries Service (NMFS), National Oceanic and Atmospheric Administration (NOAA), Commerce.

ACTION: Final rule.

SUMMARY: NMFS announces Federal management measures are waived for the 2025 black sea bass recreational fishery. The implementing regulations for this fishery require NMFS to publish recreational measures for the fishing year and to provide an opportunity for public comment. The intent of this action is to approve conservation equivalency and set management measures that allow this recreational fishery to achieve, but not exceed, the recreational harvest target and thereby prevent overfishing.

DATES: This rule is effective June 25, 2025.

ADDRESSES: Copies of this final rule are available from: Michael Pentony, Regional Administrator, Greater Atlantic Regional Fisheries Office, 55 Great Republic Drive, Gloucester, MA 01930, and accessible via the internet at: https://www.fisheries.noaa.gov/action/final-rule-implement-2025-black-sea-bass.

FOR FURTHER INFORMATION CONTACT: Savannah Lewis, Fishery Management Specialist, (978) 281-9348, or Savannah.Lewis@noaa.gov.

SUPPLEMENTARY INFORMATION:

Background

The Mid-Atlantic Fishery Management Council (Council) and the Atlantic States Marine Fisheries Commission (Commission) cooperatively manage the summer flounder, scup, and black sea bass commercial and recreational fisheries. The Council and the Commission's Summer Flounder, Scup, and Black Sea Bass Management Board (Board) meet together each year to recommend recreational management measures for all three species, generally set for two years, so that recreational harvest achieves, but does not exceed, the recreational harvest targets specified by the Percent Change Approach adopted in the Harvest Control Rule Framework (Framework 17) (88 FR 14499, March 9, 2023).

Pursuant to the regulations at 50 CFR 648.142(d), NOAA's National Marine Fisheries Service (NMFS) must implement coastwide measures or approve conservation-equivalent measures for black sea bass as soon as possible following the Council and Board's recommendation. This action approves conservation equivalency for black sea bass in 2025.

Black Sea Bass Conservation Equivalency

In this final rule, NMFS is implementing conservation equivalency to manage the 2025 black sea bass recreational fishery, as described in the proposed rule published on April 3, 2025 (90 FR 14595). Under conservation equivalency, Federal regulations that apply to the recreational black sea bass fishery are waived and federally permitted party/charter vessels and all recreational vessels fishing in Federal waters are subject to the recreational fishing measures implemented by the state in which they land. This approach allows for more customized measures at a state or regional level that are likely to better meet the needs of anglers in each area, compared to coastwide measures that may be advantageous to anglers in some areas and unnecessarily restrictive in others.

The combination of state/regional measures must be “equivalent,” in terms of conservation, to a set of “non-preferred coastwide measures” that are recommended by the Council and the Board each year. States, through the Commission, are collectively implementing measures designed to constrain landings to the recreational harvest targets. Additional information on the development of these measures is provided in the proposed rule (90 FR 14595; April 3, 2025) and not repeated here.

2025 Black Sea Bass Recreational Management Measures

On April 23, 2025, the Commission notified NMFS that it had certified that the 2025 recreational fishing measures to be implemented in state waters for black sea bass are, collectively, the conservation equivalent of the season, fish size, and possession limit prescribed in §§ 648.145(a), 648.146, and 648.147(b). According to § 648.142(d)(2), if conservation equivalency is adopted, vessels subject to the recreational fishing measures are not subject to Federal measures and instead are subject to the recreational fishing measures implemented by the state in which they land. Section 648.151 is amended through this final rule to recognize state-implemented measures as the conservation equivalent of the Federal coastwide recreational management measures for 2025.

Changes From the Proposed Rule

There are no changes from the proposed rule.

Comments and Responses

NMFS received 16 unique comments on the proposed rule (90 FR 14595, April 3, 2025). Comments were received from 12 individuals, the Huntington Angler's Club, the Montauk Boatmen and Captains Association, and two comments were submitted anonymously. Several comments included discussion on changes and recommendations for state management measures, which were not part of the proposed action, and therefore, are not addressed in the following responses. The majority of comments were in support of the proposed action. Comments are grouped and summarized by topic.

Comment 1: Five comments referenced the high biomass of black sea bass and commented on the need for higher catch limits. Three commenters noted that the stock is in good shape, increasing, and has been saved, and that no reductions were needed, but that higher catch limits were needed, with one adding an additional comment that many fish may die from post-release mortality because of the higher biomass. One comment also expressed these views and asked for better use of for-hire vessel trip report (VTR) data for the black sea bass fishery. Finally, one commenter asked for more favorable regulations for just black sea bass, and that there should not be a season for black sea bass.

Response: NMFS agrees that the biomass of black sea bass is high, with the 2024 management track assessment indicating that the stock is 2.19 times the biomass target. No additional reductions are being implemented. The 2025 black sea bass measures are the same as those implemented in 2024.

The overall catch limit (OFL) and corresponding catch limits are based on projections from the 2024 management track stock assessment. The Council and the Commission cooperatively manage summer flounder, scup, and black sea bass. The OFL, ABC, and commercial and recreational quotas for 2025 fishing year for black sea bass have been finalized already through a prior, separate action (89 FR 99138; December 10, 2024).

The Council and the Commission's Management Boards meet jointly each year to recommend recreational management measures. The Percent Change Approach, which was used to determine what, if any, changes to previously implemented measures may be necessary for 2025, was designed by the Council and Commission for managing Mid-Atlantic recreational fisheries. The Percent Change Approach uses two factors to determine if management measures could remain status quo, could be liberalized, or must be restricted. These two factors are: (1) a comparison of the confidence interval (CI) around an estimate of expected harvest under status quo measures with the average recreational harvest limit for the upcoming 2 years; and (2) biomass compared to the target level, as defined by the most recent stock assessment. These two factors also determine the appropriate degree of change (i.e., a percentage change in expected harvest). This approach attempts to constrain harvest to prevent overfishing while also acknowledging that recreational catch estimates are uncertain and often highly variable (more so than commercial catch estimates). The Percent Change Approach makes incremental adjustments, thus reducing the tendency of management measures to chase after the highs and lows by either liberalizing or restricting measures too much in any given year in reaction to potentially large year-to-year variations in recreational catch estimates. This year, the process concluded that no changes were required for 2025.

This rule does not implement state-specific measures for black sea bass, but rather waives the Federal recreational measures for black sea bass through a process called conservation equivalency. Under conservation equivalency, Federal recreational measures are waived and federally permitted for-hire vessels and all recreational vessels fishing in Federal waters are subject to the recreational fishing measures implemented by the state in which they land. States and regions set their own management measures, which are approved through the Commission process. The combination of state or regional measures must achieve equivalent conservation as the non-preferred coastwide measures, which are intended to maintain a status quo recreational harvest.

A response on post-release mortality can be found in Comment 3.

Expanded use of recreational for-hire VTRs may be considered in the future. The Council has initiated an action to consider additional changes to recreational fisheries management, which may include the consideration of enhanced VTR requirements. Please see the following comment, Comment 2, for more information on future Council actions.

Comment 2: Two comments were supportive of the rule while also highlighting the need for future actions. Specifically, both requested additional review of catch data for setting the next cycle of recreational measures for 2026 and 2027 due to the concerns over accurate recreational data. Both comments also asked NMFS to consider the impacts of potential management approaches under development as part of the Recreational Sector Separation Amendment.

Response: The data used to inform the black sea bass recreational management measures are the best available data on recreational catch. In addition to the Marine Recreational Information Program (MRIP), a bioeconomic model developed by the Northeast Fisheries Science Center (the Recreational Demand Model (RDM)) was used to estimate harvest. The RDM uses trip attributes such as expected harvest and costs, as well as the availability of different sizes of fish, to estimate the likelihood that an angler will go fishing under a given set of regulations. The RDM is informed by a 2022 survey of anglers from Maine through Virginia as well as recent size distribution information from the stock assessment.

For 2026 and 2027 measures, the new Recreational Measures Framework—if approved by NMFS and implemented following further notice and comment rulemaking—would be used to set management measures. The new framework, which the Council voted to recommend to NMFS at its April 2025 meeting, incorporates revisions to the existing Percent Change Approach to determine if measures should remain status quo, be restricted, or be liberalized. Additionally, updated MRIP information and a new stock assessment are anticipated to be available for management use. The RDM will be rerun with the updated information to enable states to select appropriate management measures in the future.

In response to considerations in 2027 for mode management and sector separation, the Recreational Sector Separation Amendment is currently in development by the Council and Commission, and no formal alternatives have been prepared. Therefore, it is not possible to predict how future management measures may be impacted by changes that may be implemented under this action. As NMFS, the Council, and the Commission develop the amendment, there will be continued opportunities for public comment and engagement. NMFS encourages interested parties to continue to engage with the involved bodies as the action continues to be developed.

Comment 3: Two comments focused specifically on post-release mortality and expressed concerns over the practice of “upgrading” or “high-grading” and supported management measures to reduce mortality.

Response: The most recent stock assessment included information on recreational discards, including specific discard mortality rates for regions and for the commercial and recreational sectors. The assessment output was then used to set catch limits and, within the RDM, to enable states to select appropriate management measures with a greater understanding of the impact of those measures on total mortality. There is mortality associated with all types of fishing and the total mortality described in the assessment includes a percentage of dead fish that were released alive that do not survive, based on scientific research. Any specific change to a management measure to reduce black sea bass fishing mortality or disincentivize specific selective fishing practices would be up to the individual states when they set measures as a part of the conservation equivalency process approved by this action.

Comment 4: One comment supported the proposed rule but had concerns on its implementation and the impacts on recreational anglers, enforcement with sufficient monitoring and reporting systems, and accuracy of recreational data.

Response: This action is routine and expected by the recreational sector and waives Federal management measures in favor of state management measures, which reduces confusion among anglers. NMFS has approved conservationally equivalent recreational measures for black sea bass with similar actions in 2023 and 2024, and therefore, this action should not have large impacts on recreational anglers. As stated in Comment 1, the States set their own management measures and are responsible for enforcing these measures, in coordination with Federal law enforcement. As stated in Comment 2, MRIP and the application of the RDM, a bioeconomic model, are the best scientific tools available for the recreational fishery. Furthermore, the Council is considering revisions to recreational data collection through its Recreational Reform Initiative to improve recreational reporting systems and data accuracy.

Comment 5: Six commenters expressed support for the 2025 black sea bass recreational measures. Commenters cited that this action is a wise use of the resource, appreciated the flexibility given to States and regions to select their own measures, and were supportive of preventing overfishing on the stock.

Response: NMFS agrees. This action approves conservation equivalency for black sea bass for fishing year 2025. See Comment 1 for additional information on conservation equivalency.

Classification

Pursuant to section 305(d) of the Magnuson-Stevens Fishery Conservation and Management Act (Magnuson-Stevens Act) (16 U.S.C. 1855(d)), the Assistant Administrator for Fisheries, NOAA, has determined that this action is necessary to carry out the Summer Flounder, Scup, and Black Sea Bass Fishery Management Plan, and its implementing regulations, and that this final rule is consistent with the Summer Flounder, Scup, and Black Sea Bass Fishery Management Plan, other provisions of the Magnuson-Stevens Act, and other applicable law. In a previous action under section 304(b), the regulations at § 648.142 authorize NMFS to take this action under section 305(d).

The Assistant Administrator for Fisheries, NOAA, finds good cause under 5 U.S.C. 553(d)(3) to make the rule effective immediately upon filing with the Office of the Federal Register. Stakeholder and industry groups have been involved with the development of this action and have participated in public meetings throughout the past year. Generally, stakeholders are supportive of the use of conservation equivalency because it allows states, and regions, more flexibility to set measures, instead of one set of coastwide measures that apply to all. A further delay in implementation past the start of the recreational fishing season would be contrary to the public interest, as it could perpetuate confusion both in the recreational fisheries regarding the management measures, and with state agencies as they prepare and finalize their recreational management measures. Until this rule is effective, federally permitted for-hire vessels are subject to the Federal 2024 non-preferred coastwide measures (i.e., 5 fish, 15 inches (38 centimeters) or greater, open season of May 15-September 8), which may be more restrictive than a given the state's measures. This puts federally permitted for-hire vessels in those states at a disadvantage relative to state-only permitted for-hire vessels.

NMFS could not publish this final rule at an earlier date. The recreational management measure setting process begins after the Council and Board provide recommended annual specifications in August of each year, followed by a NMFS notice and comment rulemaking. Throughout the fall, the Council's Monitoring Committee evaluates the needed changes in recreational harvest under the proposed specifications, and develops recommendations for coastwide management measures for the Council and Board to consider. At the December 2024 meeting, the Council and Board voted on recommended recreational management measures. Council staff then prepared and submitted those recommendations to NMFS and NMFS prepared a proposed rule that was published on April 3, 2024, with a public comment period that was open through April 18, 2024. After the comment period closes, NMFS must review, consider, and respond to all comments on the proposed rule and develop the final rule package, which is then subject to further review upon completion. In addition, during the proposed rule development and comment period, the states are developing management measures and submitting that information to the Commission to ensure that the suite of state measures are the conservation equivalent of coastwide Federal measures. The letter confirming conservation equivalent measures from the Commission was received by NMFS on April 23, 2025. Pursuant to §§ 648.102(d)(2)(ii) and 648.142(d)(2)(ii), NMFS cannot finalize conservation equivalency without this information from the Commission.

As noted above, the Federal, non-preferred coastwide measures for black sea bass that were codified last year (89 FR 32374, April 26, 2024) remain in effect until the decision to waive Federal measures for 2025 is made effective by this final rule. Many states have already implemented their conservationally equivalent 2025 measures and have opened their recreational seasons; any additional delay in implementing the measures of this rule will increase confusion on what measures are in place in Federal waters. Inconsistencies between the states' measures and the Federal measures could lead to misunderstanding of the applicable regulations and could increase the likelihood of noncompliant landings.

Unlike actions that require an adjustment period to comply with new rules, this action does not require recreational and charter/party operators to purchase new equipment or otherwise expend time or money to comply with this action's management measures. Rather, compliance with this final rule simply means adhering to the published state management measures for black sea bass while the recreational and charter/party operators are engaged in fishing activities. For these reasons, the Assistant Administrator finds good cause to waive the 30-day delay in the date of effectiveness and to implement this rule upon the date of filing in the Federal Register.

This final rule has been determined to be not significant for purposes of Executive Order (E.O.) 12866.

This final rule is not a regulatory action pursuant to E.O. 14192 because this action is not significant under E.O. 12866.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

The Chief Counsel for Regulation of the Department of Commerce certified to the Chief Counsel for Advocacy of the Small Business Administration during the proposed rule stage that this action would not have a significant economic impact on a substantial number of small entities. The factual basis for the certification was published in the proposed rule and is not repeated here. NMFS received no comments regarding this certification. Therefore, a final regulatory flexibility analysis was not required and none was prepared.

This final rule contains no information collection requirements under the Paperwork Reduction Act of 1995 (PRA) (44 U.S.C. 3501 et seq.).

List of Subjects in 50 CFR Part 648

Fisheries, Fishing, Reporting and recordkeeping requirements.

Dated: June 23, 2025.
Samuel D. Rauch III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. Revise § 648.151 to read as follows:

§ 648.151 Black sea bass conservation equivalency.

(a) The Regional Administrator has determined that the recreational fishing measures proposed to be implemented by the states of Maine through North Carolina for 2025 are the conservation equivalent of the season, size limits, and possession limit prescribed in §§ 648.146, 648.147(b), and 648.145(a). This determination is based on a recommendation from the Summer Flounder, Scup, and Black Sea Bass Board of the Atlantic States Marine Fisheries Commission.

(1) Federally permitted vessels subject to the recreational fishing measures of this part, and other recreational fishing vessels harvesting black sea bass in or from the EEZ and subject to the recreational fishing measures of this part, landing black sea bass in a state whose fishery management measures are determined by the Regional Administrator to be conservation equivalent shall not be subject to the more restrictive Federal measures, pursuant to the provisions of § 648.4(b). Those vessels shall be subject to the recreational fishing measures implemented by the state in which they land.

(2) [Reserved]

(b) Federally permitted vessels subject to the recreational fishing measures of this part, and other recreational fishing vessels registered in states and subject to the recreational fishing measures of this part, whose fishery management measures are not determined by the Regional Administrator to be the conservation equivalent of the season, size limits and possession limit prescribed in §§ 648.146, 648.147(b), and 648.145(a), respectively, due to the lack of, or the reversal of, a conservation-equivalent recommendation from the Summer Flounder, Scup, and Black Sea Bass Board of the Atlantic States Marine Fisheries Commission shall be subject to the following precautionary default measures: Season—June 1 through August 31; minimum size—16 inches (40.64 cm); and possession limit—2 fish.

[FR Doc. 2025-11710 Filed 6-25-25; 8:45 am]

BILLING CODE 3510-22-P